NUCLEAR REGULATORY COMMISSION

[NRC-2020-0245]

Environmental Qualification of Certain Electrical Equipment Important to Safety for Nuclear Power Plants

AGENCY: Nuclear Regulatory Commission.

ACTION: Draft regulatory guide; request for comment; reopening of comment period.

SUMMARY: On December 17, 2020, the U.S. Nuclear Regulatory Commission (NRC) solicited comments on draft regulatory guide (DG), DG-1361, “Environmental Qualification of Certain Electrical Equipment Important to Safety for Nuclear Power Plants.” The public comment period closed on February 16, 2021. The NRC has decided to reopen the public comment period for an additional 60 days to allow more time for members of the public to develop and submit their comments.

DATES: The comment period for the document published on December 17, 2020 (85 FR 81958) has been reopened. Comments should be filed no later than April 19, 2021. Comments received after this date will be considered, if it is practical to do so, but the Commission is able to ensure consideration only for comments received on or before this date. Although a time limit is given, comments and suggestions in connection with items for inclusion in guides currently being developed or improvements in all published guides are encouraged at any time.

ADDRESSES: You may submit comments by any of the following methods; however, the NRC encourages electronic comment submission through the Federal Rulemaking website:

• Federal Rulemaking website: Go to https://www.regulations.gov and search for Docket ID NRC-2020-0245. Address questions about Docket IDs in Regulations.gov to Stacy Schumann; telephone: 301-415-0624; e-mail: Stacy.Schumann@nrc.gov. For technical questions, contact the individuals listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Michael Eudy, Office of Nuclear Regulatory Research, telephone: 301-415-3104, email: Michael.Eudy@nrc.gov, or Matthew McConnell, Office of Nuclear Reactor Regulation, telephone: 301-415-1597, email: Matthew.Mcconnell@nrc.gov, U.S. Nuclear Regulatory Commission, Washington, DC 20555-0001.

SUPPLEMENTARY INFORMATION:

I. Obtaining Information and Submitting Comments

A. Obtaining Information

Please refer to Docket ID NRC-2020-0245 when contacting the NRC about the availability of information for this action. You may obtain publicly available information related to this action by any of the following methods:

• Federal Rulemaking website: Go to https://www.regulations.gov and search for Docket ID NRC-2020-0245.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

B. Submitting Comments

The NRC encourages electronic comment submission through the Federal Rulemaking website (https://www.regulations.gov). Please include Docket ID NRC-2020-0245 in your comment submission.

The NRC cautions you not to include identifying or contact information that you do not want to be publicly disclosed in your comment submission. The NRC posts all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On December 17, 2020, the NRC solicited comments on DG-1361. The public comment period closed on February 16, 2021. DG-1361 is proposed revision 2 of regulatory guide (RG) 1.89 of the same name. The proposed revision describes an approach that is acceptable to the staff of the NRC to meet regulatory requirements for environmental qualification of certain electric equipment important to safety for nuclear power plants. The previous revision of RG 1.89 was issued in June 1984 and endorsed the use of Institute of Electrical and Electronic Engineers (IEEE) Standard (Std.) 323-1974. This proposed revision incorporates additional information regarding the dual logo International Electrotechnical Commission (IEC)/IEEE Std. 60780-323, “Nuclear Facilities—Electrical Equipment Important to Safety—Qualification,” Edition 1, 2016-02. The NRC received two requests to extend the public comment period (ADAMS Accession Nos. ML20142A003 and ML21041A128), but the agency was unable to extend the comment period before the close of the comment period. The NRC has decided to reopen the public comment period for an additional 60 days to allow more time for members of the public to develop and submit their comments.

Dated: February 11, 2021.
For the Nuclear Regulatory Commission.
Meraj Rahimi,
Chief, Regulatory Guidance and Generic Issues Branch, Division of Engineering, Office of Nuclear Regulatory Research.

[FR Doc. 2021-03220 Filed 2-17-21; 8:45 am]

BILLING CODE 7590-01-P